DEPARTMENT OF TRANSPORTATION

Federal Aviation Administration

14 CFR Part 39

[Docket No. 99-NE-31-AD]

RIN 2120-AA64

Airworthiness Directives; Air Cruisers Company Emergency Evacuation Slide/Raft System

AGENCY: Federal Aviation Administration (FAA), DOT.

ACTION: Notice of proposed rulemaking (NPRM).

SUMMARY: The FAA proposes to supersede an existing airworthiness directive (AD) for a certain Air Cruisers Company Emergency Evacuation Slide/Raft System. That AD currently requires a one-time unpacking and subsequent repacking of the slide/raft systems, identified by basic part number (P/N) with dash numbers, and serial numbers (SNs) listed in the AD, and mandates repacking of all other slide/raft systems of the same design at the next required normal maintenance schedule of the slide/raft system. This proposed AD contains the same requirements but replaces the specific slide/raft system P/N dash numbers with the word “-series”, reduces the number of affected slide/raft systems to the SNs identified in paragraph (g) of this proposed AD, and eliminates mandating the utilization of the applicable Folding Procedures for subsequent repacking of all slide/raft systems of the same design during the normal scheduled maintenance. This proposed AD is prompted by recent information received that Air Cruisers Company has made modifications which have added new dash numbers to the slide/raft system basic P/N. This has affected some of the SN slide/raft systems listed in the AD. The actions specified in this proposed AD are intended to prevent failure of the slide/raft to properly inflate, which could impede the emergency evacuation of passengers in the event of an airplane emergency.

DATES: We must receive any comments on this proposed AD by September 16, 2003.

ADDRESSES: Use one of the following addresses to submit comments on this proposed AD:

• By mail: Federal Aviation Administration (FAA), New England Region, Office of the Regional Counsel, Attention: Rules Docket No. 99-NE-31-AD, 12 New England Executive Park, Burlington, MA 01803-5299.

• By fax: (781) 238-7055.

• By e-mail: 9-ane-adcomment@faa.gov.

You may get the service information identified in this proposed AD from Air Cruisers Company, Technical Publications Department, PO Box 180, Belmar, NJ 07719-0180; telephone: (732) 681-3527, fax: (732) 280-8212.

You may examine the AD docket at the FAA, New England Region, Office of the Regional Counsel, 12 New England Executive Park, Burlington, MA.

FOR FURTHER INFORMATION CONTACT: Leung Lee, Aerospace Engineer, New York Aircraft Certification Office, FAA, Engine and Propeller Directorate, 10 Fifth Street, 3rd floor, Valley Stream, NY 11581-1200; telephone (516) 256-7509; fax (516) 568-2716.

SUPPLEMENTARY INFORMATION:

Comments Invited

We invite you to submit any written relevant data, views, or arguments regarding this proposal. Send your comments to an address listed under ADDRESSES. Include “AD Docket No. 99-NE-31-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us through a nonwritten communication, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.plainlanguage.gov.

Examining the AD Docket

You may examine the AD Docket (including any comments and service information), by appointment, between 8 a.m. and 4:30 p.m., Monday through Friday, except Federal holidays. See ADDRESSES for the location.

Discussion

On January 22, 2003, the FAA issued AD 2003-03-11, Amendment 39-13035 (68 FR 4897, January 31, 2003). That AD requires a one-time unpacking and subsequent repacking of the slideraft system, identified by basic P/N with dash numbers and SNs. That AD also mandates repacking of all other slide/raft systems of the same design at the next required normal maintenance schedule of the slide/raft system. That AD was prompted by reports of separation of the lower aspirator during a number of deployments. That condition, if not corrected, could result in failure of the slide/raft to properly inflate, which could result in the inability to evacuate the passenger cabin in the event of an airplane emergency.

Actions Since AD 2003-03-11 Was Issued

Since that AD was issued, we became aware that the manufacturer has modified some slide/raft systems which has added some new dash numbers to the basic P/N of 62774. This proposed AD contains the same requirements as AD 2003-03-11, but replaces the specific slide/raft system P/N dash numbers with the word “-series”. In addition, the number of affected slide/raft systems is now reduced to the SNs identified in paragraph (g) of this proposed AD. Also, this proposed AD eliminates mandating the utilization of the applicable Folding Procedures for subsequent repacking of all slide/raft systems of the same design during the normal scheduled maintenance.

Relevant Service Information

We have reviewed and approved the technical contents of Air Cruisers Company Service Bulletin (SB) 777-107-25-06, dated February 19, 1999, that identifies improperly packed slide/rafts by SN, and references slide/raft folding procedure P-12054, and P-12064.

FAA's Determination and Requirements of the Proposed AD

We have evaluated all pertinent information and identified an unsafe condition that is likely to exist or develop on other products of this same type design. Therefore, we are proposing this AD, which would require a one-time unpacking and repacking of P/N 62774-series slide/raft systems, identified by SNs. The proposed AD would require that these actions be done per the service information described previously.

Changes to 14 CFR Part 39—Effect on the Proposed AD

On July 10, 2002, we published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

There are approximately 388 slide/raft systems of the affected design in the worldwide fleet. We estimate that 74 slide/raft systems installed on airplanes of U.S. registry would be affected by this proposed AD. We also estimate that it would take approximately 5 work hours per slide/raft system to perform the repacking, and that the average labor rate is $60 per work hour. Based on these figures, the total cost of the proposed AD to U.S. operators is estimated to be $22,200.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 99-NE-31-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13035, (68 FR 4897, January 31, 2003), and by adding the following new airworthiness directive:

Air Cruisers Company: Docket No. 99-NE-31-AD. Supersedes AD 2003-03-11, Amendment 39-13035.

Comments Due Date

(a) The Federal Aviation Administration (FAA) must receive comments on this airworthiness directive (AD) action by September 16, 2003.

Affected ADs

(b) This AD supersedes AD 2003-03-11, Amendment 39-13035.

Applicability

(c) This AD applies to all dash numbers of Air Cruisers Company Emergency Evacuation Slide/Raft System, part number (P/N) 62774. These Emergency Evacuation Slide/Raft Systems are installed on, but not limited to Boeing 777-200 and -300 series airplanes.

Unsafe Condition

(d) This AD is prompted by recent information received that Air Cruisers Company has made modifications which have added new dash numbers to the slide/raft system basic P/N. This has affected some of the SN slide/raft systems listed in AD 2003-03-11. In addition, this AD is prompted by the requirement to reduce the number of affected slide/raft systems to only the SNs identified in paragraph (g) of this AD. We are issuing this AD to prevent failure of the slide/raft to properly inflate, which could impede the emergency evacuation of passengers in the event of an airplane emergency.

Compliance

(e) If you have not already performed the actions required by this AD, you must perform the actions within the compliance times specified in this AD.

Repacking

(f) For slide/raft systems that have a SN listed in Table 1 of this AD, do the following: Table 1 follows:

Table 1.—Affected Slide/Raft SNs
0203 | 0207 | 0220 | 0234 | 0235 | 0239 | 0241 | 0245 | 0250 | 0255
0267 | 0277 | 0280 | 0302 | 0305 | 0306 | 0310 | 0312 | 0316 | 0318
0320 | 0330 | 0332 | 0333 | 0335 | 0339 | 0342 | 0343 | 0344 | 0345
0348 | 0349 | 0350 | 0351 | 0354 | 0355 | 0356 | 0358 | 0364 | 0365
0366 | 0368 | 0369 | 0372 | 0373 | 0374 | 0376 | 0378 | 0379 | 0380
0381 | 0384 | 0385 | 0388 | 0389 | 0390 | 0391 | 0392 | 0394 | 0395
0396 | 0397 | 0398 | 0399 | 0402 | 0403 | 0404 | 0406 | 0408 | 0409
0411 | 0413 | 0415 | 0417 | 0418 | 0419 | 0420 | 0421 | 0422 | 0423
0425 | 0426 | 0427 | 0428 | 0429 | 0430 | 0431 | 0433 | 0438 | 0443
0445 | 0455 | 0456

(1) For slide/raft systems currently installed on airplanes, repack the slide/raft system within 2 months after the effective date of this AD in accordance with the Accomplishment Instructions described in Air Cruisers Company SB 777-107-25-06, dated February 19, 1999, and the applicable Air Cruisers Company Folding Procedure P-12054 (for left-hand slide/rafts), Revision F, dated March 12, 1999, or Procedure P-12064 (for right-hand slide/rafts), Revision F, dated March 12, 1999.

(2) For uninstalled slide/raft systems, repack before installation, in accordance with the Accomplishment Instructions described in Air Cruisers Company SB 777-107-25-06, dated February 19, 1999, and the applicable Air Cruisers Company Folding Procedure P-12054 (for left-hand slide/rafts), Revision F, dated March 12, 1999, or Procedure P-12064 (for right-hand slide/rafts), Revision F, dated March 12, 1999.

(g) For slide/raft systems SN 0558 and lower that are not included in Table 1 of this AD, repack the slide/raft systems in accordance with the applicable Air Cruisers Company Folding Procedure P-12054 (for left-hand slide/rafts), Revision F, dated March 12, 1999, or Procedure P-12064 (for right-hand slide/rafts), Revision F, dated March 12, 1999, at the next required normal maintenance schedule of the slide/raft system, but no later than 18 months after the effective date of this AD.

Credit for Previous Repacking

(h) Slide/raft systems with a SN listed in Table 1 or identified in paragraph (g) of this AD that have already been repacked in accordance with Air Cruisers Company Folding Procedures P-12054, Revision F, dated March 12, 1999, or P-12064, Revision F, dated March 12, 1999, as applicable, are considered in compliance with the requirements of paragraph (f) or (g) of this AD.

(i) Slide/raft systems with a SN listed in Table 1 or identified in paragraph (g) of this AD that were repacked under AD 2003-11-03 are considered in compliance with the requirements of paragraph (f) or (g) of this AD.

Alternative Methods of Compliance (AMOCs)

(j) You must request AMOCs as specified in 14 CFR 39.19. All AMOCs must be approved by the Manager, New York Aircraft Certification Office, FAA.

Material Incorporated by Reference

(k) The repacking must be done in accordance with the following Air Cruisers Company service bulletin (SB) and Folding Procedures:

Document No. | Pages | Revision | Date
SB 777-107-25-06 Total pages: 3 | All | Original | February 19, 1999.
P-12054 Total pages: 158 | All | F | March 12, 1999.
P-12064 Total pages: 156 | All | F | March 12, 1999.

Related Information

(l) None.

Issued in Burlington, Massachusetts, on July 14, 2003.
Robert E. Guyotte,
Acting Manager, Engine and Propeller Directorate, Aircraft Certification Service.

[FR Doc. 03-18243 Filed 7-17-03; 8:45 am]

BILLING CODE 4910-13-P